DEPARTMENT OF HOMELAND SECURITY

Coast Guard

33 CFR Part 117

[CGD05-04-223]

RIN 1625-AA-09

Drawbridge Operation Regulations; Atlantic Intracoastal Waterway (AICW), Elizabeth River, Southern Branch, VA

AGENCY: Coast Guard, DHS.

ACTION: Notice of temporary deviation from regulations and request for comments.

SUMMARY: The Commander, Fifth Coast Guard District, has issued a temporary deviation from the drawbridge operation regulations to test an alternate drawbridge operation regulation for the Dominion Boulevard (US 17) Bridge across the Southern Branch of the Elizabeth River, at AICW mile 8.8, at Chesapeake, Virginia. Under this temporary 90-day deviation, from 8:30 a.m. to 4 p.m., Monday through Friday, except Federal holidays, the draw of the bridge will open every hour on the half hour. During the temporary deviation, the bridge will continue to open on signal for commercial vessels that provide a two-hour advance notice and will open on demand at all times for commercial vessels carrying liquefied flammable gas or other hazardous materials.

The purpose of this temporary deviation is to test an alternate drawbridge operation schedule for 90 days and solicit comments from the public.

DATES: This deviation is effective from 8:30 a.m. on December 13, 2004, to 4 p.m. on March 13, 2005. Comments must reach the Coast Guard on or before March 14, 2005.

ADDRESSES: You may mail comments and related material to Commander (obr), Fifth Coast Guard District, Federal Building, 1st Floor, 431 Crawford Street, Portsmouth, Virginia 23704-5004, or they may be hand delivered to the same address between 8 a.m. and 4 p.m., Monday through Friday, except Federal Holidays. The Commander (obr), Fifth Coast Guard District maintains the public docket for this test schedule. Comments and material received from the public, as well as documents indicated in this preamble as being available in the docket, will become part of this docket and will be available for inspection or copying at the above address.

Request for Comments

We encourage you to participate in this test deviation by submitting comments and related material. If you do so, please include your name and address, identify the docket number for this test deviation CGD05-04-223, indicate the specific section of this document to which each comment applies, and give the reason for each comment. Please submit all comments and related material in an unbound format, no larger than 8½ by 11 inches, suitable for copying. If you would like to know they reached us, please enclose a stamped, self-addressed postcard or envelope. We will consider all comments and material received during the comment period.

FOR FURTHER INFORMATION CONTACT: Bill Brazier, Bridge Management Specialist, Fifth Coast Guard District, at (757) 398-6422.

SUPPLEMENTARY INFORMATION: In an effort to ease vehicle traffic congestion as a result of recent vessel openings of the drawbridge, the Coast Guard has issued a temporary deviation from the drawbridge regulations to test for a period of 90 days an alternate drawbridge operation schedule.

Under this 90-day temporary deviation, effective from December 13, 2004 to March 13, 2005, the Dominion Boulevard (US 17) Bridge, mile 8.8 in Chesapeake, shall open on signal for commercial vessels that provide a two-hour advance notice and will open on demand at all times for commercial vessels carrying liquefied flammable gas or other hazardous materials. From December 13, 2004 to March 13, 2005, from 8:30 a.m. to 4 p.m., Monday through Friday, except Federal holidays, the draw need be opened only every hour on the half hour.

This deviation from the operating regulations is authorized under 33 CFR 117.43.

Dated: December 10, 2004.
Waverly W. Gregory, Jr.,
Chief, Bridge Administration Branch, Fifth Coast Guard District.

[FR Doc. 04-27676 Filed 12-16-04; 8:45 am]

BILLING CODE 4910-15-P